DEPARTMENT OF COMMERCE

Submission for OMB Review; Comment Request

The Department of Commerce will submit to the Office of Management and Budget (OMB) for clearance the following proposal for collection of information under the provisions of the Paperwork Reduction Act (44 U.S.C. Chapter 35).

Agency National Oceanic and Atmospheric Administration (NOAA).

Title: Vessel Monitoring System for Atlantic Highly Migratory Species.

OMB Control Number: 0648-0372.

Form Number(s): None.

Type of Request: Regular submission.

Burden Hours: 584.

Number of Respondents: 292.

Average Hours per Response: Annual maintenance and repair, 2 hours.

Needs and Uses: The purpose of this collection of information is to comply with the United States' obligations under the Atlantic Tunas Convention Act of 1975 (ATCA; 16 U.S.C. 971) and the Secretary of Commerce's obligations under the Magnuson-Stevens Fishery Conservation and Management Act (Magnuson-Stevens Act).

Vessels fishing for Atlantic tuna and swordfish that use pelagic longline gear and vessels fishing for sharks with bottom longline or gillnet gear are required to install and operate vessel monitoring systems (VMS). The automatic position reports are submitted on an hourly basis whenever the vessel is at sea. Vessel operators must submit an installation checklist to National Marine Fisheries Service (NMFS), which provides information on the hardware and communications service selected by each vessel, when the VMS unit is initially installed. NMFS will use the returned checklists to ensure that position reports are received and to aid NMFS in troubleshooting problems (all vessel operators have installed their units, so this requirement is not counted in the burden hours above).

Affected Public: Business or other for-profit organizations.

Frequency: Daily, annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: March 19, 2009.
Glenna Mickelson,
Management Analyst, Office of the Chief Information Officer.

[FR Doc. E9-6483 Filed 3-25-09; 8:45 am]

BILLING CODE 3510-22-P